DEPARTMENT OF TRANSPORTATION

Surface Transportation Board

[Docket No. FD 35689]

BNSF Railway Company—Lease Exemption—Norfolk Southern Railway Company

AGENCY: Surface Transportation Board, DOT.

ACTION: Notice of exemption.

SUMMARY: Under 49 U.S.C. 10502, the Board is granting a petition for exemption from the prior approval requirements of 49 U.S.C. 11323-25 for BNSF Railway Company (BNSF) to lease from Norfolk Southern Railway Company approximately 1.2 miles of rail line (the Line) located between W. 23 Street on the northern end and a point approximately 600 feet north of the Chicago SAG Canal on the southern end in Chicago, Ill. Under the lease, BNSF proposes to rehabilitate the currently inoperable Line to provide a new connection between major freight yards and main line tracks, thereby reducing congestion and delays and adding capacity to the Chicago area freight rail infrastructure. The lease exemption is subject to standard labor protective conditions.

DATES: This exemption will be effective on January 24, 2013. Petitions to stay must be filed by January 22, 2013. Petitions to reopen must be filed by February 4, 2013.

ADDRESSES: An original and 10 copies of all pleadings, referring to Docket No. FD 35689, must be filed with the Surface Transportation Board, 395 E Street SW., Washington, DC 20423-0001. In addition, a copy of each pleading must be served on petitioner's representative: Karl Morell, 655 15th Street NW., Suite 225, Washington, DC 20005.

FOR FURTHER INFORMATION CONTACT: Marc Lerner, (202) 245-0390. [Assistance for the hearing impaired is available through the Federal Information Relay Service (FIRS) at 1-800-877-8339.]

SUPPLEMENTARY INFORMATION: Additional information is in the Board's decision served on January 14, 2013. Board decisions and notices are available on our Web site at “www.stb.dot.gov”.

Decided: January 8, 2013.
By the Board, Chairman Elliott, Vice Chairman Begeman, and Commissioner Mulvey.
Jeffrey Herzig,
Clearance Clerk.

[FR Doc. 2013-00495 Filed 1-11-13; 8:45 am]

BILLING CODE 4915-01-P